DEPARTMENT OF COMMERCE

International Trade Administration

[A-351-860, A-834-812, A-557-828, A-821-838]

Ferrosilicon From Brazil, Kazakhstan, Malaysia, and the Russian Federation: Initiation of Less-Than-Fair-Value Investigations

AGENCY: Enforcement and Compliance, International Trade Administration, Department of Commerce.

DATES: Applicable April 17, 2024.

FOR FURTHER INFORMATION CONTACT: Jaron Moore (Brazil) at (202) 482-3640; Samantha Kinney (Kazakhstan) at (202) 482-2285; Peter Farrell (Malaysia) at (202) 482-2104; and Jacob Saude (the Russian Federation (Russia)) at (202) 482-0981, AD/CVD Operations, Enforcement and Compliance, International Trade Administration, U.S. Department of Commerce, 1401 Constitution Avenue NW, Washington, DC 20230.

SUPPLEMENTARY INFORMATION:

The Petitions

On March 28, 2024, the U.S. Department of Commerce (Commerce) received antidumping duty (AD) petitions concerning imports of ferrosilicon from Brazil, Kazakhstan, Malaysia, and Russia filed in proper form on behalf of CC Metals and Alloys, LLC and Ferroglobe USA, Inc. (the petitioners).¹ These AD Petitions were accompanied by countervailing duty (CVD) petitions concerning imports of ferrosilicon from Brazil, Kazakhstan, Malaysia, and Russia.²

¹ See Petitioners' Letter, “Petitions for the Imposition of Antidumping and Countervailing Duties,” dated March 28, 2024 (the Petitions).

² Id.

On April 1, 2024, Commerce requested supplemental information pertaining to certain aspects of the Petitions in supplemental questionnaires.³ The petitioners responded to Commerce's supplemental questionnaires on April 3 and 4, 2024.⁴

³ See Commerce's Letter, “Supplemental Questions,” dated April 1, 2024 (General Issues Questionnaire); see also Country-Specific Supplemental Questionnaires: Brazil Supplemental, Kazakhstan Supplemental, Malaysia Supplemental, and Russia Supplemental, dated April 1, 2024.

⁴ See Petitioners' Letters, “Petitioner's Responses to Supplemental Questions—General Issues,” dated April 3, 2024 (General Issues Supplement); see also Country-Specific AD Supplemental Responses: Brazil AD Supplement, Kazakhstan AD Supplement, Malaysia AD Supplement, and Russia AD Supplement, dated April 4, 2024.

In accordance with section 732(b) of the Tariff Act of 1930, as amended (the Act), the petitioners allege that imports of ferrosilicon from Brazil, Kazakhstan, Malaysia, and Russia are being, or are likely to be, sold in the United States at less than fair value (LTFV) within the meaning of section 731 of the Act, and that imports of such products are materially injuring, or threatening material injury to, the ferrosilicon industry in the United States. Consistent with section 732(b)(1) of the Act, the Petitions were accompanied by information reasonably available to the petitioners supporting their allegations.

Commerce finds that the petitioners filed the Petitions on behalf of the domestic industry, because the petitioners are interested parties, as defined in section 771(9)(C) of the Act. Commerce also finds that the petitioners demonstrated sufficient industry support for the initiation of the requested LTFV investigations.⁵

⁵ See section on “Determination of Industry Support for the Petitions,” infra.

Periods of Investigation

Because the Petitions were filed on March 28, 2024, pursuant to 19 CFR 351.204(b)(1), the period of investigation (POI) for the Brazil, Kazakhstan, and Malaysia LTFV investigations is January 1, 2023, through December 31, 2023. Because Russia is a non-market economy (NME) country, pursuant to 19 CFR 351.204(b)(1), the POI for the Russia LTFV investigation is July 1, 2023, through December 31, 2023.

Scope of the Investigations

The product covered by these investigations is ferrosilicon from Brazil, Kazakhstan, Malaysia, and Russia. For a full description of the scope of these investigations, see the appendix to this notice.

Comments on the Scope of the Investigations

As discussed in the Preamble to Commerce's regulations, we are setting aside a period for interested parties to raise issues regarding product coverage (i.e., scope).⁶ Commerce will consider all scope comments received from interested parties and, if necessary, will consult with interested parties prior to the issuance of the preliminary determinations. If scope comments include factual information,⁷ all such factual information should be limited to public information. To facilitate preparation of its questionnaires, Commerce requests that scope comments be submitted by 5:00 p.m. Eastern Time (ET) on May 7, 2024, which is 20 calendar days from the signature date of this notice.⁸ Any rebuttal comments, which may include factual information, and should also be limited to public information, must be filed by 5:00 p.m. ET on May 17, 2024, which is 10 calendar days from the initial comment deadline.

⁶ See Antidumping Duties; Countervailing Duties, Final Rule, 62 FR 27296, 27323 (May 19, 1997) (Preamble); see also 19 CFR 351.312.

⁷ See 19 CFR 351.102(b)(21) (defining “factual information”).

⁸ See 19 CFR 351.303(b)(1).

Commerce requests that any factual information that parties consider relevant to the scope of these investigations be submitted during that period. However, if a party subsequently finds that additional factual information pertaining to the scope of the investigations may be relevant, the party must contact Commerce and request permission to submit the additional information. All scope comments must be filed simultaneously on the records of the concurrent LTFV and CVD investigations.

Filing Requirements

All submissions to Commerce must be filed electronically via Enforcement and Compliance's Antidumping Duty and Countervailing Duty Centralized Electronic Service System (ACCESS), unless an exception applies.⁹ An electronically filed document must be received successfully in its entirety by the time and date it is due.

⁹ See Antidumping and Countervailing Duty Proceedings: Electronic Filing Procedures; Administrative Protective Order Procedures, 76 FR 39263 (July 6, 2011); see also Enforcement and Compliance: Change of Electronic Filing System Name, 79 FR 69046 (November 20, 2014) for details of Commerce's electronic filing requirements, effective August 5, 2011. Information on using ACCESS can be found at https://access.trade.gov/help.aspx and a handbook can be found at https://access.trade.gov/help/Handbook_on_Electronic_Filing_Procedures.pdf.

Comments on Product Characteristics

Commerce is providing interested parties an opportunity to comment on the appropriate physical characteristics of ferrosilicon to be reported in response to Commerce's AD questionnaires. This information will be used to identify the key physical characteristics of the subject merchandise in order to report the relevant factors of production (FOP) or cost of production (COP) accurately, as well as to develop appropriate product comparison criteria.

Interested parties may provide any information or comments that they feel are relevant to the development of an accurate list of physical characteristics. Specifically, they may provide comments as to which characteristics are appropriate to use as: (1) general product characteristics; and (2) product comparison criteria. We note that it is not always appropriate to use all product characteristics as product comparison criteria. We base product comparison criteria on meaningful commercial differences among products. In other words, although there may be some physical product characteristics utilized by manufacturers to describe ferrosilicon, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5:00 p.m. ET on May 7, 2024, which is 20 calendar days from the signature date of this notice.¹⁰ Any rebuttal comments must be filed by 5:00 p.m. ET on May 17, 2024, which is 10 calendar days from the initial comment deadline. All comments and submissions to Commerce must be filed electronically using ACCESS, as explained above, on the record of each of the LTFV investigations.

¹⁰ See 19 CFR 351.303(b)(1).

Determination of Industry Support for the Petitions

Section 732(b)(1) of the Act requires that a petition be filed on behalf of the domestic industry. Section 732(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC apply the same statutory definition regarding the domestic like product,¹¹ they do so for different purposes and pursuant to a separate and distinct authority. In addition, Commerce's determination is subject to limitations of time and information. Although this may result in different definitions of the like product, such differences do not render the decision of either agency contrary to law.¹²

¹¹ See section 771(10) of the Act.

¹² See USEC, Inc. v. United States, 132 F. Supp. 2d 1, 8 (CIT 2001) (citing Algoma Steel Corp., Ltd. v. United States, 688 F. Supp. 639, 644 (CIT 1988), aff'd Algoma Steel Corp., Ltd. v. United States, 865 F.2d 240 (Fed. Cir. 1989)).

Section 771(10) of the Act defines the domestic like product as “a product which is like, or in the absence of like, most similar in characteristics and uses with, the article subject to an investigation under this title.” Thus, the reference point from which the domestic-like product analysis begins is “the article subject to an investigation” (i.e., the class or kind of merchandise to be investigated, which normally will be the scope as defined in the petition).

With regard to the domestic like product, the petitioners do not offer a definition of the domestic like product distinct from the scope of the investigations.¹³ Based on our analysis of the information submitted on the record, we have determined that ferrosilicon, as defined in the scope, constitutes a single domestic like product, and we have analyzed industry support in terms of that domestic like product.¹⁴

¹³ See Petitions at Volume I (pages 15-18 and Exhibits I-1 and I-9).

¹⁴ For a discussion of the domestic like product analysis as applied to these cases and information regarding industry support, see Antidumping Duty Investigation Initiation Checklists: Ferrosilicon from Brazil, Kazakhstan, Malaysia, and the Russian Federation, dated concurrently with, and hereby adopted by, this notice (Country-Specific AD Initiation Checklists), at Attachment II, Analysis of Industry Support for the Antidumping and Countervailing Duty Petitions Covering Ferrosilicon from Brazil, Kazakhstan, Malaysia, and the Russian Federation (Attachment II). These checklists are on file electronically via ACCESS.

In determining whether the petitioners have standing under section 732(c)(4)(A) of the Act, we considered the industry support data contained in the Petitions with reference to the domestic like product as defined in the “Scope of the Investigations,” in the appendix to this notice. To establish industry support, the petitioners provided their own production of the domestic like product in 2023.¹⁵ The petitioners stated that there are no other known producers of ferrosilicon in the United States and provided information to support their claim; therefore, the Petitions are supported by 100 percent of the U.S. industry.¹⁶ We have relied on the data provided by the petitioners for purposes of measuring industry support.¹⁷

¹⁵ See Petitions at Volume I (page 3 and Exhibit I-4); see also General Issues Supplement at 5.

¹⁶ See Petitions at Volume I (pages 2-3 and Exhibit I-3); see also General Issues Supplement at 4 and Attachment 2.

¹⁷ See Petitions at Volume I (pages 2-3 and Exhibits I-3 and I-4); see also General Issues Supplement at 4-5 and Attachment 2. For further discussion, see Attachment II of the Country-Specific AD Initiation Checklists.

Our review of the data provided in the Petitions, the General Issues Supplement, and other information readily available to Commerce indicates that the petitioners have established industry support for the Petitions.¹⁸ First, the Petitions established support from domestic producers (or workers) accounting for more than 50 percent of the total production of the domestic like product and, as such, Commerce is not required to take further action in order to evaluate industry support (e.g., polling).¹⁹ Second, the domestic producers (or workers) have met the statutory criteria for industry support under section 732(c)(4)(A)(i) of the Act because the domestic producers (or workers) who support the Petitions account for at least 25 percent of the total production of the domestic like product.²⁰ Finally, the domestic producers (or workers) have met the statutory criteria for industry support under section 732(c)(4)(A)(ii) of the Act because the domestic producers (or workers) who support the Petitions account for more than 50 percent of the production of the domestic like product produced by that portion of the industry expressing support for, or opposition to, the Petitions.²¹ Accordingly, Commerce determines that the Petitions were filed on behalf of the domestic industry within the meaning of section 732(b)(1) of the Act.²²

¹⁸ See Petitions at Volume I (pages 2-3 and Exhibits I-3 and I-4); see also General Issues Supplement at 4-5 and Attachment 2. For further discussion, see Attachment II of the Country-Specific AD Initiation Checklists.

¹⁹ See Attachment II of the Country-Specific AD Initiation Checklists; see also section 732(c)(4)(D) of the Act.

²⁰ See Attachment II of the Country-Specific AD Initiation Checklists.

²¹ Id.

²² Id.

Allegations and Evidence of Material Injury and Causation

The petitioners allege that the U.S. industry producing the domestic like product is being materially injured, or is threatened with material injury, by reason of the imports of the subject merchandise sold at LTFV. In addition, the petitioners allege that subject imports from Brazil, Kazakhstan, Malaysia, and Russia exceed the negligibility threshold provided for under section 771(24)(A) of the Act.²³

²³ See Petitions at Volume I (page 20 and Exhibit I-10).

The petitioners contend that the industry's injured condition is illustrated by the significant and increasing volume of subject imports; underselling and price depression and/or suppression; low capacity utilization rates; lost sales and revenues; and adverse impact on financial performance.²⁴ We assessed the allegations and supporting evidence regarding material injury, threat of material injury, causation, as well as negligibility, and we have determined that these allegations are properly supported by adequate evidence, and meet the statutory requirements for initiation.²⁵

²⁴ Id. at 20-47 and Exhibits I-1, I-2, I-4, I-8 through I-44; see also General Issues Supplement at 5-6.

²⁵ See Country-Specific AD Initiation Checklists at Attachment III, Analysis of Allegations and Evidence of Material Injury and Causation for the Antidumping and Countervailing Duty Petitions Covering Ferrosilicon from Brazil, Kazakhstan, Malaysia, and the Russian Federation.

Allegations of Sales at LTFV

The following is a description of the allegations of sales at LTFV upon which Commerce based its decision to initiate LTFV investigations of imports of ferrosilicon from Brazil, Kazakhstan, Malaysia, and Russia. The sources of data for the deductions and adjustments relating to U.S. price and normal value (NV) are discussed in greater detail in the Country-Specific AD Initiation Checklists.

U.S. Price

For Brazil, Kazakhstan, Malaysia, and Russia, the petitioners based export price (EP) on the POI average unit values derived from official U.S. import statistics for imports of ferrosilicon produced in and exported from each country.²⁶ For each country, the petitioners made certain adjustments to U.S. price to calculate a net ex-factory U.S. price, where applicable.²⁷

²⁶ See Country-Specific AD Initiation Checklists.

²⁷ Id.

Normal Value ²⁸

²⁸ In accordance with section 773(b)(2) of the Act, for the Brazil, Kazakhstan, and Malaysia investigations, Commerce will request information necessary to calculate the constructed value (CV) and COP to determine whether there are reasonable grounds to believe or suspect that sales of the foreign like product have been made at prices that represent less than the COP of the product.

For Brazil, the petitioners based NV on home market prices obtained through market research for ferrosilicon produced in and sold, or offered for sale, in Brazil during the applicable time period.²⁹ The petitioners made certain adjustments to home market price to calculate a net ex-factory home market price, where applicable.³⁰

²⁹ See Brazil AD Initiation Checklist.

³⁰ Id.

For Kazakhstan and Malaysia, the petitioners stated that they were unable to obtain home market or third country pricing information for ferrosilicon to use as a basis for NV.³¹ Therefore, for Kazakhstan and Malaysia, the petitioners calculated NV based on CV.³² For further discussion of CV, see the section “Normal Value Based on Constructed Value,” below.

³¹ See Kazakhstan AD Initiation Checklist; see also Malaysia AD Initiation Checklist.

³² Id.

Commerce considers Russia to be an NME country.³³ In accordance with section 771(18)(C)(i) of the Act, any determination that a foreign country is an NME country shall remain in effect until revoked by Commerce. Therefore, we continue to treat Russia as an NME country for purposes of the initiation of the Russia LTFV investigation. Accordingly, we base NV on FOPs valued in a surrogate market economy country in accordance with section 773(c) of the Act.

³³ See, e.g., Emulsion Styrene-Butadiene Rubber from the Russian Federation: Final Affirmative Determination of Sales at Less Than Fair Value and Classification of the Russian Federation as a Non-Market Economy, 87 FR 69002 (November 17, 2022), and accompanying “Reconsideration of Russia's Status as a Market Economy” Decision Memorandum.

The petitioners claim that Malaysia is an appropriate surrogate country for Russia because it is a market economy that is at a level of economic development comparable to that of Russia and is a significant producer of comparable merchandise.³⁴ The petitioner provided publicly available information from Malaysia to value all FOPs except labor.³⁵ Consistent with Commerce's recent practice in cases involving Malaysia as a surrogate country,³⁶ to value labor, the petitioner provided labor statistics from another surrogate country, Romania.³⁷ Based on the information provided by the petitioner, we believe it is appropriate to use Malaysia as a surrogate country for Russia to value all FOPs except labor and to value labor using labor statistics from Romania for initiation purposes.

³⁴ See Russia AD Initiation Checklist.

³⁵ Id.

³⁶ See, e.g., Certain Collated Steel Staples from the People's Republic of China: Final Results of Antidumping Duty Administrative Review; and Final Determination of No Shipments; 2021-2022, 88 FR 85242 (December 7, 2023), and accompanying Issues and Decision Memorandum (IDM) at Comment 2; and Light-Walled Rectangular Pipe and Tube from the People's Republic of China: Final Results of Antidumping Duty Administrative Review, 88 FR 15671 (March 14, 2023), and accompanying IDM at Comment 2.

³⁷ See Russia AD Initiation Checklist.

Interested parties will have the opportunity to submit comments regarding surrogate country selection and, pursuant to 19 CFR 351.301(c)(3)(i), will be provided an opportunity to submit publicly available information to value FOPs within 30 days before the scheduled date of the preliminary determination.

Factors of Production

Because information regarding the volume of inputs consumed by Russian producers/exporters was not reasonably available, the petitioners used product-specific consumption rates from a U.S. producer of ferrosilicon as a surrogate to value Russian manufacturers' FOPs (except labor).³⁸ Additionally, the petitioners calculated factory overhead, selling, general, and administrative (SG&A) expenses, and profit based on the experience of a Malaysian producer of identical merchandise.³⁹

³⁸ Id.

³⁹ Id. As noted above, the petitioner calculated labor using information specific to Romania.

Normal Value Based on Constructed Value

As noted above for Kazakhstan and Malaysia, the petitioners stated that they were unable to obtain home market or third-country prices for ferrosilicon to use as a basis for NV. Therefore, for Kazakhstan and Malaysia, the petitioners calculated NV based on CV.⁴⁰

⁴⁰ See Kazakhstan AD Initiation Checklist; see also Malaysia AD Initiation Checklist.

Pursuant to section 773(e) of the Act, the petitioners calculated CV as the sum of the cost of manufacturing, SG&A expenses, financial expenses, and profit.⁴¹ For Kazakhstan and Malaysia, in calculating the cost of manufacturing, the petitioners relied on the production experience and input consumption rates of a U.S. producer of ferrosilicon, valued using publicly available information applicable to the respective countries.⁴² In calculating SG&A expenses, financial expenses, and profit ratios, the petitioners relied on the fiscal year 2022 financial statements of producers of identical merchandise domiciled in Kazakhstan and Malaysia, respectively.⁴³

⁴¹ Id.

⁴² Id.

⁴³ Id.

Fair Value Comparisons

Based on the data provided by the petitioners, there is reason to believe that imports of ferrosilicon from Brazil, Kazakhstan, Malaysia, and Russia are being, or are likely to be, sold in the United States at LTFV. Based on comparisons of EP to NV in accordance with sections 772 and 773 of the Act, the estimated dumping margins for ferrosilicon for each of the countries covered by this initiation are as follows: (1) Brazil—21.78 percent; (2) Kazakhstan—237.75 percent; (3) Malaysia—162.66 percent; and (4) Russia—283.27 percent.⁴⁴

⁴⁴ See Country-Specific AD Initiation Checklists.

Initiation of LTFV Investigations

Based upon the examination of the Petitions and supplemental responses, we find that they meet the requirements of section 732 of the Act. Therefore, we are initiating LTFV investigations to determine whether imports of ferrosilicon from Brazil, Kazakhstan, Malaysia, and Russia are being, or are likely to be, sold in the United States at LTFV. In accordance with section 733(b)(1)(A) of the Act and 19 CFR 351.205(b)(1), unless postponed, we will make our preliminary determinations no later than 140 days after the date of these initiations.

Respondent Selection

Brazil, Kazakhstan, and Malaysia

In the Petitions, the petitioner identified 11 companies in Brazil, five companies in Kazakhstan, and two companies in Malaysia as producers/exporters of ferrosilicon.⁴⁵ With respect to Malaysia, the Government of Malaysia provided comments on the record of the companion CVD case, which have been placed on the record of the Malaysia AD case, in which it stated that there are four producers of ferrosilicon in Malaysia.⁴⁶ Following standard practice in LTFV investigations involving market economy countries, in the event Commerce determines that the number of companies is large, and it cannot individually examine each company based upon Commerce's resources, where appropriate, Commerce intends to select mandatory respondents based on U.S. Customs and Border Protection (CBP) data for imports under the appropriate Harmonized Tariff Schedule of the United States (HTSUS) subheading(s) listed in the “Scope of the Investigations,” in the appendix.

⁴⁵ See Petitions at Volume I (page 10 and Exhibit I-6); see also General Issues Supplement at 3-4.

⁴⁶ See Memorandum, “Antidumping Duty Petition on Ferrosilicon from Malaysia: Placement of Document on the Record,” dated April 16, 2024.

On April 12, 2024, Commerce released CBP data on imports of ferrosilicon from Brazil, Kazakhstan, and Malaysia under administrative protective order (APO) to all parties with access to information protected by APO and indicated that interested parties wishing to comment on CBP data and/or respondent selection must do so within three business days of the publication date of the notice of initiation of these investigations.⁴⁷ Comments must be filed electronically using ACCESS. An electronically filed document must be received successfully in its entirety via ACCESS by 5:00 p.m. ET on the specified deadline. Commerce will not accept rebuttal comments regarding the CBP data or respondent selection.

⁴⁷ See Memoranda, “Antidumping Duty Investigation of Ferrosilicon from Brazil AD Petition: Release of U.S. Customs and Border Protection Data,” dated April 12, 2024; “Antidumping Duty Petition on Ferrosilicon from Kazakhstan: Release of Data from U.S. Customs and Border Protection,” dated April 12, 2024; and “Antidumping Duty Petition on Ferrosilicon from Malaysia: Release of Data from U.S. Customs and Border Protection,” dated April 12, 2024.

Interested parties must submit applications for disclosure under APO in accordance with 19 CFR 351.305(b). Instructions for filing such applications may be found on Commerce's website at https://www.trade.gov/administrative-protective-orders.

Russia

In the Petitions, the petitioner named 11 companies in Russia as producers and/or exporters of ferrosilicon.⁴⁸ Our standard practice for respondent selection in AD investigations involving NME countries is to select respondents based on quantity and value (Q&V) questionnaires in cases where Commerce has determined that the number of companies is large and it cannot individually examine each company based upon its resources. Therefore, considering the number of producers and/or exporters identified in the Petitions, Commerce will solicit Q&V information that can serve as a basis for selecting exporters for individual examination in the event that Commerce determines that the number is large and decides to limit the number of respondents individually examined pursuant to section 777A(c)(2) of the Act. Because there are 11 Russian producers and/or exporters identified in the Petitions, Commerce has determined that it will issue Q&V questionnaires to each potential respondent for which the petitioners have provided a complete address.

⁴⁸ See Petitions at Volume I (page 10 and Exhibit I-6).

Commerce will post the Q&V questionnaires along with filing instructions on Commerce's website at https://www.trade.gov/ec-adcvd-case-announcements. Producers/exporters of ferrosilicon from Russia that do not receive Q&V questionnaires may still submit a response to the Q&V questionnaire and can obtain a copy of the Q&V questionnaire from Commerce's website. Responses to the Q&V questionnaire must be submitted by the relevant Russian producers/exporters no later than 5:00 p.m. ET on May 1, 2024, which is two weeks from the signature date of this notice. All Q&V questionnaire responses must be filed electronically via ACCESS. An electronically filed document must be received successfully, in its entirety, by ACCESS no later than 5:00 p.m. ET on the deadline noted above.

Interested parties must submit applications for disclosure under APO in accordance with 19 CFR 351.305(b). As stated above, instructions for filing such applications may be found on Commerce's website at https://www.trade.gov/administrative-protective-orders.

Separate Rates

In order to obtain separate rate status in an NME investigation, exporters and producers must submit a separate rate application. The specific requirements for submitting a separate rate application in an NME investigation are outlined in detail in the application itself, which is available on Commerce's website at https://access.trade.gov/Resources/nme/nme-sep-rate.html. The separate rate application will be due 30 days after publication of this initiation notice. Exporters and producers must file a timely separate rate application if they want to be considered for individual examination. Exporters and producers who submit a separate rate application and have been selected as mandatory respondents will be eligible for consideration for separate rate status only if they respond to all parts of Commerce's AD questionnaire as mandatory respondents. Commerce requires that companies from Russia submit a response both to the Q&V questionnaire and to the separate rate application by the respective deadlines to receive consideration for separate rate status. Companies not filing a timely Q&V questionnaire response will not receive separate rate consideration.

Use of Combination Rates

Commerce will calculate combination rates for certain respondents that are eligible for a separate rate in an NME investigation. The Separate Rates and Combination Rates Bulletin states:

{w}hile continuing the practice of assigning separate rates only to exporters, all separate rates that {Commerce} will now assign in its NME investigation will be specific to those producers that supplied the exporter during the period of investigation. Note, however, that one rate is calculated for the exporter and all of the producers which supplied subject merchandise to it during the period of investigation. This practice applies both to mandatory respondents receiving an individually calculated separate rate as well as the pool of non-investigated firms receiving the {weighted average} of the individually calculated rates. This practice is referred to as the application of “combination rates” because such rates apply to specific combinations of exporters and one or more producers. The cash-deposit rate assigned to an exporter will apply only to merchandise both exported by the firm in question and produced by a firm that supplied the exporter during the period of investigation.⁴⁹

⁴⁹ See Enforcement and Compliance's Policy Bulletin No. 05.1, regarding, “Separate-Rates Practice and Application of Combination Rates in Antidumping Investigation involving NME Countries,” (April 5, 2005), at 6 (emphasis added), available on Commerce's website at https://access.trade.gov/Resources/policy/bull05-1.pdf.

Distribution of Copies of the Petitions

In accordance with section 732(b)(3)(A) of the Act and 19 CFR 351.202(f), copies of the public version of the Petitions have been provided to the governments of Brazil, Kazakhstan, Malaysia, and Russia via ACCESS. To the extent practicable, we will attempt to provide a copy of the public version of the Petitions to each exporter named in the Petitions, as provided under 19 CFR 351.203(c)(2).

ITC Notification

Commerce will notify the ITC of our initiation, as required by section 732(d) of the Act.

Preliminary Determinations by the ITC

The ITC will preliminarily determine, within 45 days after the date on which the Petitions were filed, whether there is a reasonable indication that imports of ferrosilicon from Brazil, Kazakhstan, Malaysia, and/or Russia are materially injuring, or threatening material injury to, a U.S. industry.⁵⁰ A negative ITC determination for any country will result in the investigation being terminated with respect to that country.⁵¹ Otherwise, these LTFV investigations will proceed according to statutory and regulatory time limits.

⁵⁰ See section 733(a) of the Act.

⁵¹ Id.

Submission of Factual Information

Factual information is defined in 19 CFR 351.102(b)(21) as: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁵² and, if the information is submitted to rebut, clarify, or correct factual information already on the record, to provide an explanation identifying the information already on the record that the factual information seeks to rebut, clarify, or correct.⁵³ Time limits for the submission of factual information are addressed in 19 CFR 351.301, which provides specific time limits based on the type of factual information being submitted. Interested parties should review the regulations prior to submitting factual information in these investigations.

⁵² See 19 CFR 351.301(b).

⁵³ See 19 CFR 351.301(b)(2).

Particular Market Situation Allegation

Section 773(e) of the Act addresses the concept of particular market situation (PMS) for purposes of CV, stating that “if a particular market situation exists such that the cost of materials and fabrication or other processing of any kind does not accurately reflect the cost of production in the ordinary course of trade, the administering authority may use another calculation methodology under this subtitle or any other calculation methodology.” When an interested party submits a PMS allegation pursuant to section 773(e) of the Act (i.e., a cost-based PMS allegation), Commerce will respond to such a submission consistent with 19 CFR 351.301(c)(2)(v). If Commerce finds that a cost-based PMS exists under section 773(e) of the Act, then it will modify its dumping calculations appropriately.

Neither section 773(e) of the Act, nor 19 CFR 351.301(c)(2)(v), sets a deadline for the submission of cost-based PMS allegations and supporting factual information. However, in order to administer section 773(e) of the Act, Commerce must receive PMS allegations and supporting factual information with enough time to consider the submission. Thus, should an interested party wish to submit a cost-based PMS allegation and supporting new factual information pursuant to section 773(e) of the Act, it must do so no later than 20 days after submission of a respondent's initial section D questionnaire response.

We note that a PMS allegation filed pursuant to sections 773(a)(1)(B)(ii)(III) or 773(a)(1)(C)(iii) of the Act (i.e., a sales-based PMS allegation) must be filed within 10 days of submission of a respondent's initial section B questionnaire response, in accordance with 19 CFR 301(c)(2)(i) and 19 CFR 351.404(c)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.⁵⁴ For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in these investigations.⁵⁵

⁵⁴ See 19 CFR 351.301; see also Extension of Time Limits; Final Rule, 78 FR 57790 (September 20, 2013) (Time Limits Final Rule), available at https://www.gpo.gov/fdsys/pkg/FR-2013-09-20/html/2013-22853.htm.

⁵⁵ See 19 CFR 351.302; see also, e.g., Time Limits Final Rule.

Certification Requirements

Any party submitting factual information in an AD or CVD proceeding must certify to the accuracy and completeness of that information.⁵⁶ Parties must use the certification formats provided in 19 CFR 351.303(g).⁵⁷ Commerce intends to reject factual submissions if the submitting party does not comply with the applicable certification requirements.

⁵⁶ See section 782(b) of the Act.

⁵⁷ See Certification of Factual Information to Import Administration During Antidumping and Countervailing Duty Proceedings, 78 FR 42678 (July 17, 2013) (Final Rule). Additional information regarding the Final Rule is available at https://access.trade.gov/Resources/filing/index.html.

Notification to Interested Parties

Interested parties must submit applications for disclosure under APO in accordance with 19 CFR 351.305. Parties wishing to participate in these investigations should ensure that they meet the requirements of 19 CFR 351.103(d) (e.g., by filing the required letter of appearance). Note that Commerce has amended certain of its requirements pertaining to the service of documents in 19 CFR 351.303(f).⁵⁸

⁵⁸ See Administrative Protective Order, Service, and Other Procedures in Antidumping and Countervailing Duty Proceedings, 88 FR 67069 (September 29, 2023).

This notice is issued and published pursuant to sections 732(c)(2) and 777(i) of the Act, and 19 CFR 351.203(c).

Dated: April 17, 2024.
Ryan Majerus,
Deputy Assistant Secretary for Policy and Negotiations, performing the non-exclusive functions and duties of the Assistant Secretary for Enforcement and Compliance.

Appendix

Scope of the Investigations

The scope of these investigations covers all forms and sizes of ferrosilicon, regardless of grade, including ferrosilicon briquettes. Ferrosilicon is a ferroalloy containing by weight four percent or more iron, more than eight percent but not more than 96 percent silicon, three percent or less phosphorus, 30 percent or less manganese, less than three percent magnesium, and 10 percent or less any other element. The merchandise covered also includes product described as slag, if the product meets these specifications.

Subject merchandise includes material matching the above description that has been finished, packaged, or otherwise processed in a third country, including by performing any grinding or any other finishing, packaging, or processing that would not otherwise remove the merchandise from the scope of the investigations if performed in the country of manufacture of the ferrosilicon.

Ferrosilicon is currently classifiable under subheadings 7202.21.1000, 7202.21.5000, 7202.21.7500, 7202.21.9000, 7202.29.0010, and 7202.29.0050 of the Harmonized Tariff Schedule of the United States (HTSUS). While the HTSUS numbers are provided for convenience and customs purposes, the written description of the scope remains dispositive.

[FR Doc. 2024-08674 Filed 4-23-24; 8:45 am]

BILLING CODE 3510-DS-P